DEPARTMENT OF AGRICULTURE

Animal and Plant Health Inspection Service

[Docket 04-058-1]

International Sanitary and Phytosanitary Standard-Setting Activities

AGENCY: Animal and Plant Health Inspection Service, USDA.

ACTION: Notice and request for comments.

SUMMARY: In accordance with legislation implementing the results of the Uruguay Round of negotiations under the General Agreement on Tariffs and Trade, we are informing the public of international standard-setting activities of the Office International des Epizooties, the Secretariat of the International Plant Protection Convention, and the North American Plant Protection Organization, and we are soliciting public comment on the standards to be considered.

ADDRESSES: You may submit comments by any of the following methods:

• Postal Mail/Commercial Delivery: Please send four copies of your comment (an original and three copies) to Docket No. 04-058-1, Regulatory Analysis and Development, PPD, APHIS, Station 3C71, 4700 River Road Unit 118, Riverdale, MD 20737-1238. Please state that your comment refers to Docket No. 04-058-1.

• E-mail: Address your comment to regulations@aphis.usda.gov. Your comment must be contained in the body of your message; do not send attached files. Please include your name and address in your message and “Docket No. 04-058-1” on the subject line.

• Agency Web Site: Go to http://www.aphis.usda.gov/ppd/rad/cominst.html for a form you can use to submit an e-mail comment through the APHIS Web site.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: For general information on the topics covered in this notice, contact Mr. John Greifer, Director, Trade Support Team, International Services, APHIS, room 1132, South Building, 14th Street and Independence Avenue, SW., Washington, DC 20250; (202) 720-7677. For specific information regarding standard-setting activities of the Office International des Epizooties, contact Dr. Michael David, Chief, Sanitary International Standards Team, VS, APHIS, 4700 River Road Unit 33, Riverdale, MD 20737-1231; (301) 734-8093. For specific information regarding the standard-setting activities of the International Plant Protection Convention or the North American Plant Protection Organization, contact Mr. Narcy Klag, Program Director, Phytosanitary Issues Management, PPQ, APHIS, 4700 River Road Unit 140, Riverdale, MD 20737-1236; (301) 734-8469.

SUPPLEMENTARY INFORMATION:

Background

The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law by the President on December 8, 1994. The WTO Agreements, which established the WTO, entered into force with respect to the United States on January 1, 1995. The Uruguay Round Agreements Act amended title IV of the Trade Agreements Act of 1979 (19 U.S.C. 2531 et seq.). Section 491 of the Trade Agreements Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

International standard” is defined in 19 U.S.C. 2578b as any standard, guideline, or recommendation: (1) Adopted by the Codex Alimentarius Commission (Codex) regarding food safety; (2) developed under the auspices of the Office International des Epizooties (the World Organization for Animal Health, OIE) regarding animal health and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO. The President, pursuant to Proclamation No. 6780 of March 23, 1995 (60 FR 15845), designated the Secretary of Agriculture as the official responsible for informing the public of the SPS standard-setting activities of Codex, OIE, IPPC, and NAPPO. The United States Department of Agriculture's (USDA's) Food Safety and Inspection Service (FSIS) informs the public of Codex standard-setting activities and USDA's Animal and Plant Health Inspection Service (APHIS) informs the public of OIE, IPPC, and NAPPO standard-setting activities.

FSIS publishes an annual notice in the Federal Register to inform the public of SPS standard-setting activities for Codex. Codex was created in 1962 by two United Nations organizations, the Food and Agriculture Organization (FAO) and the World Health Organization. It is the major international organization for encouraging international trade in food and protecting the health and economic interests of consumers.

APHIS is responsible for publishing an annual notice of OIE, IPPC, and NAPPO activities related to international standards for plant and animal health and representing the United States with respect to these standards. Following are descriptions of the OIE, IPPC, and NAPPO organizations and the standard-setting agenda for each of these organizations. We have described the agenda that each of these organizations will address at their annual general sessions, including standards that may be presented for adoption or consideration, as well as other initiatives that may be underway at the OIE, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

OIE Standard-Setting Activities

The OIE was established in Paris, France, in 1924 with the signing of an international agreement by 28 countries. It is currently composed of 167 member nations, each of which is represented by a delegate who, in most cases, is the chief veterinary officer of that country. The WTO has recognized the OIE as the international forum for setting animal health standards, reporting global animal disease events, and presenting guidelines and recommendations on sanitary measures relating to animal health.

The OIE facilitates intergovernmental cooperation to prevent the spread of contagious diseases in animals by sharing scientific research among its members. The major functions of the OIE are to collect and disseminate information on the distribution and occurrence of animal diseases and to ensure that science-based standards govern international trade in animals and animal products. The OIE aims to achieve this through the development and revision of international standards for diagnostic tests, vaccines, and the safe international trade of animals and animal products.

The OIE provides annual reports on the global distribution of animal diseases, recognizes the free status of member countries for certain diseases, categorizes animal diseases with respect to their international significance, publishes bulletins on global disease status, and provides animal disease control guidelines to member countries. Various OIE commissions and working groups undertake the development and preparation of draft standards, which are then circulated to member countries for consultation (review and comment). Draft standards are revised accordingly and then presented to the OIE General Session, which meets annually every May, for review and adoption. Adoption, as a general rule, is based on consensus of the OIE membership.

The next OIE General Session is scheduled for May 21-28, 2005, in Paris, France. Currently, the Associate Administrator for APHIS is the official U.S. delegate to the OIE. The Associate Administrator intends to participate in the proceedings and will discuss or comment on APHIS' position on any standard up for adoption. Information about current and past OIE draft Code chapters may be found on the Internet at http://www.aphis.usda.gov/vs/ncie/oie/ or by contacting Dr. Michael David (see FOR FURTHER INFORMATION CONTACT above).

OIE Code Chapters Up for Adoption

Existing Code chapters that may be revised and new chapters that may be drafted in preparation for the next General Session in 2005 include the following:

1. Avian Influenza

This chapter was recently redrafted, however it was not adopted. Country comments are being considered for a second draft that will be up for adoption in 2005.

2. Bovine Spongiform Encephalopathy (BSE)

This chapter is continuously being updated as new and additional information becomes available. For the next General Session, the Code Commission will propose a three tier category under which countries are placed with respect to BSE.

3. Animal Welfare

Various ad hoc groups will be continuing to draft chapters establishing international standards for the transportation of livestock. The chapters should be available for comment and review in the fall of 2004.

Code Commission Future Work Program

During the next few years, the OIE Code Commission is expected to address the following issues or establish ad hoc groups of experts to update and/or develop standards for the following issues:

1. Traceability

This would be a new OIE Code chapter which is intended to improve procedures for identifying animals and animal products and monitoring their movements.

2. Aujeszky's Disease

This disease is also known as pseudorabies in the United States. The OIE will convene an ad hoc group to draft surveillance guidelines for the disease.

3. Appendix on Bluetongue Surveillance

This would be a new OIE appendix which is intended to guide countries in the surveillance and monitoring of bluetongue.

4. Paratuberculosis

This would represent a complete redrafting of a current OIE Code chapter that has been determined to be outdated. A draft should be available for review within 1 or 2 years.

The Process

These chapters are drafted (or revised) by either the Code Commission or by ad hoc groups composed of technical experts nominated by the Director General of the OIE by virtue of their subject-area expertise. Once a new chapter is drafted or an existing one revised, the chapter is distributed to member countries for review and comment. The OIE attempts to provide proposed chapters by early September to allow member countries sufficient time for comment. Comments are due by mid-November of the same year. The draft standard is revised by the OIE Code Commission on the basis of relevant scientific comments received from member countries.

The United States (i.e., USDA/APHIS) intends to review and, where appropriate, comment on all draft chapters and revisions once it receives them from the OIE. USDA/APHIS intends to distribute these drafts to the U.S. livestock and aquaculture industries, veterinary experts in various U.S. academic institutions, and other interested persons for review and comment. Additional information regarding these draft standards may be obtained by contacting Dr. Michael David (see FOR FURTHER INFORMATION CONTACT above).

Generally, if a country has concerns with a particular draft standard, and supports those concerns with sound technical information, the pertinent OIE Code Commission will revise that standard accordingly and present the revised draft for adoption at the General Session in May. In the event that a country's concerns regarding a draft standard are not taken into account, that country may refuse to support the standard when it comes up for adoption at the General Session. However, each member country is obligated to review, comment, and make decisions regarding the adoption of standards strictly on their scientific merits.

Other OIE Topics

Every year at the General Session, two technical items are presented. For the May 2005 General Session, the following technical items will be presented:

1. The implication of genetic engineering for livestock and biotechnology products.

2. Implementation of OIE standards in the framework of the SPS Agreement.

The information in this notice includes all the information available to us on OIE standards currently under development or consideration. Information on OIE standards is available on the Internet at http://www.oie.int. Further, a formal agenda for the next General Session should be available to member countries by March 2005, and copies will be available to the public once the agenda is published. For the most current information on meeting times, working groups, and/or meeting agendas, including information on official U.S. participation in OIE activities, and U.S. positions on standards being considered, contact Dr. Michael David (see FOR FURTHER INFORMATION CONTACT above). Those wishing to provide comments on any areas of work under the OIE may do so at any time by responding to this notice (see ADDRESSES above) or by providing comments through Dr. Michael David.

IPPC Standard-Setting Activities

The IPPC is a multilateral convention adopted in 1952 for the purpose of securing common and effective action to prevent the spread and introduction of pests of plants and plant products and to promote appropriate measures for their control. Under the IPPC, the understanding of plant protection has been, and continues to be, broad, encompassing the protection of both cultivated and noncultivated plants from direct or indirect injury by plant pests. Activities addressed by the IPPC include the development and establishment of international plant health standards, the harmonization of phytosanitary activities through emerging standards, the facilitation of the exchange of official and scientific information among countries, and the furnishing of technical assistance to developing countries that are signatories to the IPPC.

The IPPC is placed under the authority of the FAO, and the members of the Secretariat of the IPPC are appointed by the FAO. The IPPC is implemented by national plant protection organizations in cooperation with regional plant protection organizations, the Interim Commission on Phytosanitary Measures (ICPM), and the Secretariat of the IPPC. The United States plays a major role in all standard-setting activities under the IPPC and has representation on FAO's highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC will enter into force on the thirtieth day after two-thirds of the current contracting parties notify the Director General of FAO of their acceptance of the amendment. At this date, 56 of the required 85 member countries have deposited their official letters of acceptance. The U.S. Senate gave its advice and consent to acceptance of the newly revised IPPC on October 18, 2000. The President submitted the official letter of acceptance to the FAO Director General on October 4, 2001.

The IPPC has been, and continues to be, administered at the national level by plant quarantine officials whose primary objective is to safeguard plant resources from injurious pests. In the United States, the national plant protection organization is APHIS' Plant Protection and Quarantine (PPQ) program. The steps for developing a standard under the revised IPPC are described below.

Step 1: Proposals for a new international standard for phytosanitary measures (ISPM) or for the review or revision of an existing ISPM are submitted to the Secretariat of the IPPC in the form of a discussion paper accompanied by a topic or draft standard. Drafts can be submitted by individual countries, but are more commonly submitted by regional plant protection organizations (RPPOs). Alternately, the Secretariat can propose a new standard or amendments to existing standards.

Step 2: A summary of proposals is submitted by the Secretariat to the ICPM. The ICPM identifies the topics and priorities for standard setting from among the proposals submitted to the Secretariat and others that may be raised by the ICPM.

Step 3: Specifications for the standards identified as priorities by the ICPM are drafted by the Secretariat. The draft specifications are submitted to the Standards Committee for approval/amendment and are subsequently made available to members and RPPOs for comment (60 days). Comments are submitted in writing to the Secretariat. Taking into account the comments, the Standards Committee finalizes the specifications.

Step 4: The standard is drafted or revised in accordance with the specifications by a working group designated by the Standards Committee. The resulting draft standard is submitted to the Standards Committee for review.

Step 5: Draft standards approved by the Standards Committee are distributed to members by the Secretariat and RPPOs for consultation (100 days). Comments are submitted in writing to the Secretariat. Where appropriate, the Standards Committee may establish open-ended discussion groups as forums for further comment. The Secretariat summarizes the comments and submits them to the Standards Committee.

Step 6: Taking into account the comments, the Secretariat, in cooperation with the Standards Committee, revises the draft standard. The Standards Committee submits the final version to the ICPM for adoption.

Step 7: The ISPM is established through formal adoption by the ICPM according to Rule X of the Rules of Procedure of the ICPM.

Step 8: Review of the ISPM is completed by the specified date or such other date as may be agreed upon by the ICPM.

Each member country is represented on the ICPM by a single delegate. Although experts and advisers may accompany the delegate to meetings of the ICPM, only the delegate (or an authorized alternate) may represent each member country in considering a standard up for approval. Parties involved in a vote by the ICPM are to make every effort to reach agreement on all matters by consensus. Only after all efforts to reach a consensus have been exhausted may a decision on a standard be passed by a vote of two-thirds of delegates present and voting.

Technical experts from the United States have participated directly in working groups and indirectly as reviewers of all IPPC draft standards. In addition, documents and positions developed by APHIS and NAPPO have been sources of significant input for many of the standards adopted to date. This notice describes each of the IPPC standards currently under consideration or up for adoption. The full text of each standard will be available on the Internet at http://www.aphis.gov/ppq/pim/standards/. Interested individuals may review the standards posted on this Web site and submit comments via the Web site.

The next ICPM meeting is scheduled for April 4-April 8, 2005, at FAO Headquarters in Rome, Italy. The Deputy Administrator for APHIS' PPQ program is the U.S. delegate to the ICPM. The Deputy Administrator intends to participate in the proceedings and will discuss or comment on APHIS' position on any standards up for adoption. The provisional agenda for the Seventh Session of the Interim Commission on Phytosanitary Measures is as follows:

1. Opening of the session.

2. Adoption of the agenda.

3. Report by the chairperson.

4. Report by the Secretariat.

5. Standards up for adoption in 2005.

6. Items arising from the Sixth Session of the ICPM (see section below entitled “New Standard Setting Initiatives” for details).

7. Work program for harmonization.

8. Status of the 1997 revised IPPC.

9. Other business.

10. Date and venue of the next meeting.

11. Adoption of the report.

IPPC Standards Up for Adoption in 2005

It is expected that the following standards will be sufficiently developed to be considered by the ICPM for adoption at its April 2005 meeting. The United States, represented by APHIS' Deputy Administrator for PPQ, will participate in the consideration of these standards. The U.S. position on each of these issues will be developed prior to the ICPM session and will be based on APHIS' analysis, information from other U.S. Government agencies, and relevant scientific information from interested stakeholders. The standards that are most likely to be considered for adoption include:

1. Amendments to ISPM No. 5 (Glossary of Phytosanitary Terms)

This standard is intended to assist national plant protection organizations and others in the exchange of information and with the harmonization of vocabulary used in official communication and legislation pertaining to phytosanitary measures. ISPMs are subject to periodic review and amendment. The last time this standard was amended was 2002. The draft standard includes proposals to amend 11 definitions, add 9 new definitions, and add clarification to 2 terms in the form of “agreed interpretation statements.” This draft standard was posted on APHIS' Web site on June 15, 2004, with comments due by September 10, 2004. Subsequently this draft will be prepared for ICPM approval at its 7th session in April 2005. The United States (i.e., USDA/APHIS) intends to support adoption of this draft standard.

2. Guidelines on the Concept of Equivalence of Phytosanitary Measures and Its Application in International Trade

This standard describes the principles and requirements that apply to the concept of equivalence of phytosanitary measures. It also describes a procedure for equivalence determinations in international trade. Equivalence is one of the IPPC general principles. It generally applies to cases where phytosanitary measures already exist for a specific pest associated with trade in a specific commodity. Equivalence determinations are based on the specified pest risk and equivalence may apply to individual measures, a combination of measures, or integrated measures in a systems approach. This draft standard was posted on APHIS' Web site on June 15, 2004, with comments due by September 10, 2004. Subsequently this draft will be prepared for ICPM approval at its 7th session in April 2005. The United States (i.e., USDA/APHIS) intends to support adoption of this draft standard.

3. Guidelines for Consignments in Transit

This standard describes phytosanitary procedures that allow consignments of regulated articles to pass in transit through a country under procedures less restrictive than those for import and re-export while appropriately managing the phytosanitary risk. This standard provides guidance for countries in adhering to the IPPC, which states that “Contracting parties may apply measures specified in this Article to consignments in transit through their territories only where such measures are technically justified and necessary to prevent the introduction and/or spread of pests.” This draft standard was posted on APHIS' Web site on June 15, 2004, with comments due by September 10, 2004. Subsequently this draft will be prepared for ICPM approval at its 7th session in April 2005. The United States (i.e., USDA/APHIS) intends to support adoption of this draft standard.

4. Guidelines for Inspection of Consignments

This standard describes the procedures for the inspection of consignments of plants, plant products, and other regulated articles at import and export. It is focused on the determination of compliance with phytosanitary requirements, based on visual examination for the detection of pests. Sampling procedures will be covered in a future standard. This draft standard was posted on APHIS' Web site on June 15, 2004, with comments due by September 10, 2004. Subsequently this draft will be prepared for ICPM approval at its 7th session in April 2005. The United States (i.e., USDA/APHIS) intends to support adoption of this draft standard.

5. Requirements for the Establishment, Maintenance, and Verification of Areas of Low Pest Prevalence

This standard describes the requirements for the establishment, maintenance, verification, and use of areas of low pest prevalence for regulated pests. Once established, these areas may be used in conjunction with other phytosanitary measures as part of a systems approach. Such areas are recognized in the IPPC and are described as “an area, whether all of a country, or all or parts of several countries, as identified by the competent authorities, in which a specific pest occurs at low levels and which is subject to effective surveillance, control or eradication measures.” This draft standard was posted on APHIS' Web site on June 15, 2004, with comments due by September 10, 2004. Subsequently this draft will be prepared for ICPM approval at its 7th session in April 2005. The United States (i.e., USDA/APHIS) intends to support adoption of this draft standard.

6. Guidelines for the Export, Shipment, Import, and Release of Biological Control Agents and Beneficial Organisms

This standard provides guidelines for risk management related to the export, shipment import, and release of biological control agents and beneficial organisms. It lists the related responsibilities of contracting parties, national plant protection organizations, importers, and exporters. The standard addresses the importation of biological control agents capable of self-replication, as well as sterile insects, and beneficial organisms, and includes those packaged or formulated as commercial products (i.e., biopesticides). It covers import for purposes including research in quarantine facilities and release into the environment. The scope of this standard does not extend to cover living modified organisms (LMOs) or issues related to product registration. This draft standard was posted on APHIS' Web site on June 15, 2004, with comments due by September 10, 2004. Subsequently this draft will be prepared for ICPM approval at its 7th session in April 2005. The United States (i.e., USDA/APHIS) intends to support adoption of this draft standard.

New Standard-Setting Initiatives, Including Those in Development

A number of expert working group meetings or other technical consultations will take place during 2004 and 2005 on the topics listed below. These standard-setting initiatives are not expected to be completed prior to April 2005 and, therefore, will not be ready for adoption at the 2005 ICPM session. Nonetheless, APHIS intends to participate actively and fully in each of these working groups. The U.S. position on each of the topics to be addressed by these various working groups will be developed prior to these working group meetings and will be based on APHIS' technical analysis, information from other U.S. Government agencies, and relevant scientific information from interested stakeholders.

1. Revision of ISPM No. 2 (Guidelines for Pest Risk Analysis)

This standard was adopted in 1995 and is considered a foundation standard describing the basic framework for conducting a pest risk analysis. This was before the revision of the IPPC and also before many national plant protection organizations had experience with pest risk analysis. The subsequent revision of the IPPC and the rapid advancement of pest risk analysis in practice created the need for updating the guidance provided by ISPM No. 2. In particular, the standard provides no guidance in certain situations such as regulated non-quarantine pests, LMOs, or biological control agents, and it has certain key deficiencies such as not considering the feasibility of measures in risk management. As a result, ICPM members agreed on the need to review, update, and make consistent the original concept standard with these more contemporary standards.

2. Efficacy of Phytosanitary Measures

This standard will provide guidance for evaluating the efficacy of phytosanitary measures. This will be significant guidance as the IPPC begins to develop recommendations on acceptable phytosanitary measures for managing specific pests. A range of supplemental and specific standards could follow (e.g., hot water treatment for fruit flies).

3. Use of Integrated Measures in a Systems Approach for Pest Risk Management of Citrus Fruit for Citrus Canker

This standard provides specific guidelines for citrus canker risk management to facilitate the trade of citrus fruit. At the Fourth Session of the ICPM, members agreed on the need to develop a standard to harmonize the approach used by countries in establishing systems approaches for export purposes.

4. Guidelines for Regulating Potato Micropropagation Material and Minitubers in International Trade

This standard describes phytosanitary measures to reduce the risks of regulated pests being associated with potato micropropagation material and minitubers in international trade. Internationally, there are large numbers of pests associated with potato propagative material. Since potato minitubers and micropropagation material are intended for use in vegetative propagation, the risk of spreading pests is increased. Certain micropropagation processes can free propagative material from pests and therefore can be used as the basis for importing healthy material. Consequently, the export certification of such material is important and its basis may be harmonized.

5. Classification of Commodities by Phytosanitary Risk Related to Level of Processing and Intended Use

This standard aims to facilitate trade and increase transparency. It is generally acknowledged that the level of processing and the intended use of commodities may result in different levels of pest and disease risk. This may result in differences in the application of phytosanitary measures, hence the need for harmonization.

6. Alternatives to Methyl Bromide

This standard will address the need for an alternative to methyl bromide (MB). With restrictions on the use of MB and decreasing availability of MB, alternative strategies for dealing with quarantine pests need to be developed.

7. Guidelines on Sampling of Consignments

This standard will provide guidelines for sampling for import, export, domestic movement, and transit of consignments. Sampling is an important component of inspection and a standard is needed to provide guidelines in order to adequately and consistently sample consignments being inspected. The draft standard on guidelines for inspection of consignments only contains basic information on sampling. However, more information and guidance is required on the principles and statistical aspects of sampling.

For more detailed information on the above topics, which will be addressed by various working groups established by the ICPM, contact Mr. Narcy Klag (see FOR FURTHER INFORMATION CONTACT above).

APHIS posts draft standards on the Internet (http://www.aphis.usda.gov/ppq/pim/standards/) as they become available and provides information when comments on standards are due. Additional information on IPPC standards is available on the FAO's Web site at http://www.ippc.int/IPP/En/default.htm. For the most current information on official U.S. participation in IPPC activities, including U.S. positions on standards being considered, contact Mr. Narcy Klag (see FOR FURTHER INFORMATION CONTACT above).

Those wishing to provide comments on any of the areas of work being undertaken by the IPPC may do so at any time by responding to this notice (see ADDRESSES above) or by providing comments through Mr. Klag.

NAPPO Standard-Setting Activities

NAPPO, a regional plant protection organization created in 1976 under the IPPC, coordinates the efforts among Canada, the United States, and Mexico to protect their plant resources from the entry, establishment, and spread of harmful plant pests, while facilitating intra- and inter-regional trade. NAPPO conducts its business through panels and annual meetings held among the three member countries. The NAPPO Executive Committee charges individual panels with the responsibility for drawing up proposals for NAPPO positions, policies, and standards. These panels are made up of representatives from each member country who have scientific expertise related to the policy or standard being considered. Proposals drawn up by the individual panels are circulated for review to government and industry officials in Canada, Mexico, and the United States, who may suggest revisions. In the United States, draft standards are circulated to industry, States, and various government agencies for consideration and comment. The draft standards are posted on the Internet at http://www.aphis.usda.gov/ppq/pim/standards/; interested persons may submit comments via that Web site. Once revisions are made, the proposal is sent to the NAPPO working group and the NAPPO standards panel for technical reviews and then to the Executive Committee for final approval, which is granted by consensus.

The annual NAPPO meeting is scheduled for October 18-22, 2004, in Vancouver, Canada. The NAPPO Executive Committee meeting will take place on October 17, 2004, and a special session will be held on October 18, 2004, to solicit comment from industry groups so that suggestions can be incorporated into the NAPPO work plan for the 2005 NAPPO year. The Deputy Administrator for PPQ is a member of the NAPPO Executive Committee. The Deputy Administrator intends to participate in the proceedings and will discuss or comment on APHIS' position on any standard up for adoption or any proposals to develop new standards.

The work plan for 2004 was established after the October 2003 Annual Meeting in New Orleans, LA. The Deputy Administrator for PPQ participated in establishing this NAPPO work plan (see panel assignments below). Below is a summary of current panel assignments as they relate to the ongoing development of NAPPO standards. The United States (i.e., USDA/APHIS) intends to participate actively and fully in the work of each of these panels. The U.S. position on each topic will be guided and informed by the best scientific information available on each of these topics. For each of the following panels, the United States will consider its position on any draft standard after it reviews a prepared draft. Information regarding the following NAPPO panel topics, assignments, activities, and updates on meeting times and locations may be obtained from the NAPPO homepage at http://www.nappo.org or by contacting Mr. Narcy Klag (see FOR FURTHER INFORMATION CONTACT above).

1. Accreditation Panel

The panel will develop an audit protocol for reviewing compliance with the NAPPO laboratory accreditation standard (RSPM No. 9). They will then use this protocol to audit the programs in the three NAPPO countries starting with the United States. They will review and update the current NAPPO laboratory accreditation standard (RSPM No. 9).

2. Biological Control Panel

This panel will finalize the NAPPO standard on biological control containment facilities.

3. Biotechnology Panel

This panel will continue to develop a NAPPO standard for the review of products of biotechnology that focuses on the assessment of the potential to present a plant pest risk. The final module, importation for uses other than propagation, will be developed.

4. Citrus Panel

The panel will revise the NAPPO standard “Guidelines for the Importation of Citrus Propagative Material into a NAPPO Member Country” (RSPM No. 16) to include additional pests.

5. Fruit Panel

The panel will finalize the amendments to the plum pox virus standard (RSPM No. 18), and will prepare a new standard entitled “Guidelines for the International Movement of Pome and Stone Fruit Trees into a NAPPO Member Country.”

6. Grapevine Panel

The panel will provide direction and support to the Technical Advisory Group to include insects and nematodes in the NAPPO standard for grapevines (RSPM No. 15).

7. Potato Panel

The panel will develop an appendix to RSPM No. 3 on nematode identification and update appendix 5 based on the latest molecular information for PVYn.

8. Propagative Material Panel

The panel will review and revise the “Concept Paper on Propagative Material” and begin the development of a NAPPO standard on the importation of plants for planting into NAPPO member countries.

9. Standards Panel

The panel will continue to provide updates on standards for the NAPPO newsletter, coordinate the review of new and amended NAPPO standards and ensure that comments received during the country consultation phase are incorporated as appropriate, organize conference calls and prepare NAPPO discussion documents for possible use at the IPPC, and promote implementation of recently adopted standards.

The PPQ Deputy Administrator, as the official U.S. delegate to NAPPO, intends to participate in the adoption of these regional plant health standards, including the work described above, once they are completed and ready for such consideration.

The information in this notice includes all the information available to us on NAPPO standards currently under development or consideration. For updates on meeting times and for information on the working panels that may become available following publication of this notice, check the NAPPO Web site on the Internet at http://www.nappo.org or contact Mr. Narcy Klag (see FOR FURTHER INFORMATION CONTACT above). Information on official U.S. participation in NAPPO activities, including U.S. positions on standards being considered, may also be obtained from Mr. Klag.

Those wishing to provide comments on any of the topics being addressed by any of the NAPPO panels may do so at any time by responding to this notice (see ADDRESSES above) or by transmitting comments through Mr. Klag.

Done in Washington, DC, this 13th day of August 2004.
Kevin Shea,
Acting Administrator, Animal and Plant Health Inspection Service.

[FR Doc. 04-19005 Filed 8-18-04; 8:45 am]

BILLING CODE 3410-34-P